DEPARTMENT OF THE INTERIOR

National Park Service

Notice of Availability of Draft Environmental Impact Statement for the North Shore Road in Great Smoky Mountains National Park

Summary: In accordance with § 102(2)(C) of the National Environmental Policy Act of 1969 (42 U.S.C. 4332(2)(C)), and the President's Council on Environmental Quality (40 CFR 1500-1508), as implemented by Director's Order 12, the National Park Service (NPS) in coordination with the Federal Highway Administration has prepared a Draft Environmental Impact Statement (DEIS) to analyze alternatives for resolving issues related to the North Shore Road in the Great Smoky Mountains National Park (GSMNP). With the approval of the Department of Interior, the NPS is presenting the alternatives in the DEIS without identifying a preferred alternative. The NPS is seeking public comment on the alternatives before selecting a preferred alternative. This notice announces the availability of the DEIS and the locations of public hearings for the purpose of receiving comments on the draft document.

The purpose of the proposed action is to discharge and satisfy any obligations on the part of the United States that presently exist as the result of the July 30, 1943, Memorandum of Agreement (MOA) among the U.S. Department of the Interior (DOI), Tennessee Valley Authority, Swain County, North Carolina, and the State of North Carolina. The need of the project is to determine whether or not it is feasible to complete the road and to evaluate other alternative that would satisfy the obligation.

The DEIS analyzes one no-action alternative and four action alternatives for meeting the purpose and need of the project. The no-action alternative would continue current management practices and policies into the future. One of the action alternatives would provide Swain County with a monetary settlement to satisfy and discharge the obligations of the MOA. Each of the other three action alternatives would allow various levels of development and/or road construction within the project study area of GSMNP.

Under the Laurel Branch Picnic Area alternative a day-use area on the north side of existing Lake View Road would be constructed. Outdoor facilities would include a multi-use picnic shelter, picnic tables, several loop trails, drinking fountains, and restrooms. Under the Partial-Build Alternative to Bushnell, up to 8 miles (12.9 km) of new roadway from the existing tunnel west to the vicinity of the former Bushnell settlement would be constructed. The alternative would provide a boat-launching ramp and restricted boat dock. Located near the terminus of the new roadway would be a multi-use picnic shelter and picnic tables, a backcountry permit station, an information kiosk, restrooms, and a parking area. Exhibit/museum space would be designed to highlight local heritage of the area and may include concession opportunities. Under the Northern Shore Corridor Alternative, 29 to 34.3 miles of new roadway to the vicinity of Fontana Dam would be constructed. It would connect Lake View Road to NC 28. This alternative would include provisions for the development of an auto-tour guide describing the historic and natural points of interest along the route. Also, restrooms would be built at appropriate locations.

Dates: The DEIS will be available for public review and comments submitted until March 20, 2006. Public hearings will be held on February 2, 6, 7, 9, and 13, 2006. Hearings will be conducted from 4 p.m. to 8 p.m. or later as needed to hear all comments. Representatives of the NPS will be available at the public hearings to receive comments, concerns, and other input from the public related to the DEIS.

Specific information about the public hearings is as follows: February 2, 2006, 4:30-8 p.m., Swain County High School, Center for the Arts, Auditorium, 1415 Fontana Road, Bryson City, NC; February 6, 2006, 4:30-8 p.m., Robbinsville High School Auditorium, 301 Sweetwater Road, Robbinsville, NC; February 7, 2006, 4:30-8 p.m., Asheville Renaissance Hotel, One Thomas Wolfe Plaza, Asheville, NC; February 9, 2006, 4:30-8 p.m., Knoxville Marriott, 500 Hill Avenue, SE., Knoxville, TN; February 13, 2006, 4:30-8 p.m., Gatlinburg-Pittman High School Auditorium, 150 Proffitt Road, Gatlinburg, TN.

Addresses: The complete DEIS and associated appendices are available for review or download on the Internet at http://www.northshoreroad.info.

Copies of the DEIS will also be available for review at the following locations: Pack Memorial Library, 67 Haywood Street, Asheville, NC 28801; Marianna Black Library, 33 Fryemont Road, Bryson City, NC 28713; Charlotte and Mecklenburg County Main Library, 310 North Tryon Street, Charlotte, NC 28202; Qualla Boundary Public Library, 810 Acquoni Road, Cherokee, NC 28719; Anna Porter Public Library, 207 Cherokee Orchard Road, Gatlinburg, TN 37738; GSMNP Headquarters, 107 Park Headquarters Road, Gatlinburg, TN 37738; Lawson-McGee Library, 500 West Church Avenue, Knoxville, TN 37915; Cameron Village Regional Library, 410-200 Oberlin Road, Raleigh, NC 27605; Graham County Public Library, 80 Knight Street, Robbinsville, NC 28771.

For Further Information Contact: North Shore Road EIS, Attn: Superintendent, Great Smoky Mountains National Park, 107 Park Headquarters Road, Gatlinburg, TN 37738, Telephone: 865/436-1207 or Fax: 865/436-1220.

Supplementary Information: In July 1943, the Tennessee Valley Authority (TVA), the DOI, the State of North Carolina, and Swain County, entered into a Memorandum of Agreement (MOA) that dealt with the creation of Fontana Dam and Reservoir and the flooding of lands and road within Swain County. As part of that agreement, 44,170 acres of land were ultimately transferred to the DOI and made part of GSMNP. The MOA also contained a provision by which the DOI was to construct a road through the Park, along the north shore of the newly formed Fontana Reservoir, to replace the flooded NC 288, contingent upon funds being appropriated by Congress.

The DEIS evaluates potential environmental consequences, of implementing the action alternatives, on GSMNP and the Appalachian National Scenic Trail. Impact topics include the human environment, physical environment, natural and cultural resources, aesthetics and visual resources, visitor use and experience, and park operations. Direct, indirect, and cumulative impacts along with options to address potential impacts were evaluated and are described for each resource area.

The public is advised that it is the practice of the NPS to make comments, including individual names and addresses of respondents, available for public review during regular business hours. There are circumstances in which a person prefers to have his or her name and other information withheld from the public record. Any person wishing to do this must state this prominently at the beginning of any correspondence or comment, and the request will be honored to the extent allowable by law. All submissions from organizations or businesses, and from individuals identifying themselves as representatives or officials of organizations or businesses, will be placed on the public record and will be made available for public inspection in their entirety. Anonymous comments will be included in the public record, however, the NPS is not legally required to consider or respond to anonymous comments.

The DEIS is being mailed to appropriate Federal, State and local agencies and organizations which have been involved with the project, have expressed, or are known to have an interest or legal role in this proposal.

After public review of the DEIS, the National Park Service will consider comments, and a Final EIS followed by a Record of Decision will be prepared. The Final EIS is scheduled for completion in November 2006.

The responsible official for this Environmental Impact Statement is Patricia A. Hooks, Regional Director, Southeast Region, National Park Service, 100 Alabama Street, SW., 1924 Building, Atlanta, Georgia 30303.

Dated: November 14, 2005.
Patricia A. Hooks,
Regional Director, Southeast Region.

[FR Doc. 06-33 Filed 1-3-06; 8:45 am]

BILLING CODE 4312-52-M